DEPARTMENT OF STATE

[Public Notice: 7113]

U.S. Department of State Advisory Committee on Private International Law: Public Meeting on the Work of the UNCITRAL Working Group on Procurement

The United Nations Commission on International Trade Law (UNCITRAL) Working Group on Procurement will next meet November 1-5, 2010 in Vienna. At that meeting, the Working Group will continue its work on revisions to the 1994 Model Law on Procurement of Goods, Construction and Services, and it may also begin a review of a Guide to Enactment that will accompany the revised Model Law.

In preparation for that meeting, a public meeting will be held, under the auspices of the Department of State's Advisory Committee on Private International Law, to obtain the views of concerned stakeholders.

Time and Place: The public meeting will take place at The George Washington University Law School, Faculty Conference Center, 5th floor, 2000 H Street, NW., Washington, DC on October 21, 2010. The meeting will begin at 9:30 a.m. and is expected to last no later than noon. If you are unable to attend the public meeting and would like to participate from a remote location, teleconferencing will be available.

Public Participation: It is requested that persons wishing to attend contact Trisha Smeltzer prior to October 14, 2010, at smeltzertk@state.gov or 703-812-2382 and provide their name, e-mail address, and affiliation. A member of the public requesting reasonable accommodation should make his or her request upon registering for the meeting. Such requests received after October 19 will be considered, but might not be possible to fulfill. Please contact Ms. Smeltzer for additional meeting information, including teleconferencing dial-in details.

Dated: September 7, 2010.
Keith Loken,
Assistant Legal Adviser, Office of Private International Law, Office of the Legal Adviser, Department of State.

[FR Doc. 2010-22890 Filed 9-13-10; 8:45 am]

BILLING CODE 4710-08-P